DEPARTMENT OF HOUSING AND URBAN DEVELOPMENT

[Docket No. FR-5287-N-02]

Notice of Proposed Information Collection for Public Comment on the Participation Agreement, Baseline Survey, Tracking Survey and Key Informant Interview Guide for the Homeless Family Interventions Study

AGENCY: Office of Policy Development and Research, HUD.

ACTION: Notice.

SUMMARY: The proposed information collection requirement described below will be submitted to the Office of Management and Budget (OMB) for review, as required by the Paperwork Reduction Act of 1995, Public Law 104-13 (44 U.S.C. 3506(c)(2)(A)). The Department is soliciting public comments on the subject proposal.

DATES: Comments Due Date: September 11, 2009.

ADDRESSES: Interested persons are invited to submit comments regarding this proposal. Comments should refer to the proposal by name and/or OMB Control Number and should be sent to: Reports Liaison Officer, Office of Policy Development and Research, Department of Housing and Urban Development, 451 7th Street, SW., Room 8234, Washington, DC 20410.

FOR FURTHER INFORMATION CONTACT: Paul B. Dornan at (202) 402-4486 (this is not a toll-free number). Copies of the proposed forms and other available documents submitted to OMB may be obtained from Mr. Dornan.

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology that will reduce the burden (e.g., permitting electronic submission of responses).

This Notice also lists the following information:

Title of Proposal: Homeless Families Interventions Study.

OMB Control Number: 2528-pending.

Description of the need for the information and proposed use: The Participation Agreement, the Baseline and Tracking Survey Instruments and the Key Informant Interview Guide are all of the instruments necessary to put the Homeless Family Interventions Study into place. The Homeless Families Interventions Study is the first randomized experiment designed to test the impact of various combinations of housing and supportive services on the subsequent housing stability and well-being of homeless families. The Senate Appropriations Committee directed the Department in FY 2006 to “undertake research to ascertain the impact of various service and housing interventions in ending homelessness for families.” These instruments establish the research foundation on which the Department can meet that direction. They will permit the research team a set of baseline characteristics and conditions for both an experimental and a control group with which later characteristics and conditions for those same participants can be compared. A subsequent Federal Register Notice will include the follow-on survey which will permit the Department to report on the effects of various housing and services interventions on homeless families over time.

Members of affected public: Households.

Estimation of the total number of hours needed to prepare the information collection including number of respondents, frequency of response, and hours of response:

Estimated Respondent Burden Hours and Costs
Form | Respondent sample | Number of respondents | Average time to complete (minimum, maximum) in minutes | Frequency | Total burden (hours)
Baseline Survey | All enrolled families (N=3,000) | 3,000 | 40 (35, 50) | 1 | 2,000
Tracking Interview | All enrolled families (N=3,000) | 3,000 | 10 (8, 15) | 2 | 1,000
Tracking Letters | All enrolled families (N=3,000) | 3,000 | 5 (3, 10) | 3 | 750
Key Informant Interviews | Staff from programs providing services in the studied interventions | 300 (up to 25 respondents in each site) | 60 | 3 responses per respondent to collect all needed program information | 900
Total Burden Hours |  |  |  |  | 4,650

Respondent's Obligation: Voluntary.

Status of the proposed information collection: Pending OMB approval.

Authority: Title 13 U.S.C. Section 9(a), and Title 12, U.S.C., Section 1701z-1 et seq.

Dated: July 2, 2009.
Jean Lin Pao,
General Deputy Assistant Secretary for Policy Development and Research.

[FR Doc. E9-16547 Filed 7-10-09; 8:45 am]

BILLING CODE 4210-67-P